DEPARTMENT OF AGRICULTURE

Submission for OMB Review; Comment Request

December 15, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 20, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Institute of Food and Agriculture

Title: 4-H Enrollment Report.

OMB Control Number: 0524-0045.

Summary of Collection: The 1914 Smith-Lever Act created the Cooperative Extension System and the land-grant universities and their federal partner, the Extension Service, now the National Institute of Food and Agriculture, USDA. The mission of the National 4-H Headquarters; National Institute of Food and Agriculture, United States Department of Agriculture; is to advance scientific knowledge for agriculture, the environment, human and animal health and well-being, and communities by creating opportunities for youth. 4-H is the premier youth development program of the United States Department of Agriculture. Originating in the early 1900's as “four-square education,” the 4-H's (head-heart-hands-health) seek to promote positive youth development, facilitate learning and engage youth in the work of their community to enhance the quality of life.

Need and Use of the Information: The annual 4-H Enrollment Report is the principal means by which the 4-H movement can keep track of its progress, as well as emerging needs, potential problems and opportunities. All of the information necessary to run the 4-H program is collected from individuals clubs, and other units. The information collected is used to report, as requested by the Congress or the Administration, on rural versus urban outreach, enrollment by race, youth participation in leadership, community service, etc. It is also used to determine market share or percentage of the youth of each state by age and place of residence who are enrolled in the 4-H youth development program. Without the information it would be impossible to justify federal funding for the 4-H program.

Description of Respondents: State, Local or Tribal Government.

Number of Respondents: 109.

Frequency of Responses: Reporting: Annually.

Total Burden Hours: 111.

Ruth Brown,
Departmental Information Collection Clearance Officer.

[FR Doc. 2016-30672 Filed 12-20-16; 8:45 am]

BILLING CODE 3410-09-P